DEPARTMENT OF HOMELAND SECURITY

[Docket No. DHS-2008-0074]

The Critical Infrastructure Partnership Advisory Council

AGENCY: National Protection and Programs Directorate, DHS.

ACTION: Notice of update to DHS-2008-0074, the Critical Infrastructure Partnership Advisory Council (CIPAC) Meeting

SUMMARY: The update provides a change to the previously published FRN DHS-2008-0074, which moved the start time of the Critical Infrastructure Partnership Advisory Council meeting on July 30, 2008, from 8:20 a.m. Eastern Daylight Time (EDT) to 8 a.m. EDT. The meeting will adjourn at 4 p.m. EDT. Check-in for the meeting will begin at 7:30 a.m. EDT. Please note that the meeting may adjourn early if the committee has completed its business.

The meeting agenda is as follows:

7:30 a.m. Registration.

8 a.m. Call to Order: Sector Roll Call.

8:10 a.m. The Three Pillars of the CIPAC Partnership.

8:30 a.m. The Pathway to the Present: How We Got Where We Are Now.

8:50 a.m. Setting the Stage for Today's Discussions.

9 a.m. DHS and the National Infrastructure Protection Plan Framework.

9:35 a.m. Asset-Based Infrastructure Protection.

10:35 a.m. Systems-Based Infrastructure Protection.

12:15 p.m. Cross-Sector Dependencies and Interdependencies.

1:15 p.m. Regional Implementation of the National Infrastructure Protection Plan.

2:15 p.m. The National Infrastructure Protection Plan Partnership Framework: Assessment and Our Path Forward.

3:15 p.m. Perspective from The Hill: The National Infrastructure Protection Plan Partnership Framework.

3:45 p.m. Closing Remarks.

4 p.m. Adjournment.

DATES: The Critical Infrastructure Partnership Advisory Council will meet Wednesday, July 30, 2008. For additional information, please consult the CIPAC Web site, http://www.dhs.gov/cipac, or contact the CIPAC Secretariat by phone at 703-235-3999 or by e-mail at cipac@dhs.gov.

ADDRESSES: The meeting will be held in Salons III and IV of the Grand Ballroom of the J.W. Marriott, 1331 Pennsylvania Avenue, Washington, DC 20004. While we will be unable to accommodate oral comments from the public, written comments may be sent to Nancy Wong, Department of Homeland Security, National Protection and Programs Directorate, Washington, DC 20528. Comments must be identified by DHS-2008-0074 and may be submitted by one of the following methods:

• Federal eRulemaking Portal: http://www.regulations.gov. Follow the instructions for submitting comments.

• E-mail: cipac@dhs.gov. Include the docket number in the subject line of the message.

• Fax: 703-235-3055

• Mail: Nancy Wong, Department of Homeland Security, National Protection and Programs Directorate, Washington, DC 20528.

Instructions: All submissions received must include the words “Department of Homeland Security” and the docket number for this action. Comments received will be posted without alteration at http://www.regulations.gov, including any personal information provided.

Docket: For access to the docket to read background documents or comments received by the Critical Infrastructure Partnership Advisory Council, go to http://www.regulations.gov.

FOR FURTHER INFORMATION CONTACT: Nancy Wong, CIPAC Designated Federal Officer, Department of Homeland Security, Washington, DC 20528; telephone 703-235-3999.

Dated: July 22, 2008.
Nancy Wong,
Designated Federal Officer for the CIPAC.

[FR Doc. E8-17374 Filed 7-29-08; 8:45 am]

BILLING CODE 4410-10-P